DEPARTMENT OF EDUCATION

National Advisory Committee on Institutional Quality and Integrity (NACIQI)

AGENCY: National Advisory Committee on Institutional Quality and Integrity, Office of Postsecondary Education, U.S. Department of Education.

ACTION: Announcement of an open meeting of the National Advisory Committee on Institutional Quality and Integrity (NACIQI) and information pertaining to members of the public submitting third-party written and oral comments.

ADDRESSES: U.S. Department of Education, Office of Postsecondary Education, 1990 K Street NW., Room 8072, Washington, DC 20006.

NACIQI'S Statutory Authority and Function: The NACIQI is established under Section 114 of the HEA of 1965, as amended, 20 U.S.C. 1011c. The NACIQI advises the Secretary of Education about:

• The establishment and enforcement of the criteria for recognition of accrediting agencies or associations under Subpart 2, Part H, Title IV, of the HEA, as amended.

• The recognition of specific accrediting agencies or associations or a specific State approval agency.

• The preparation and publication of the list of nationally recognized accrediting agencies and associations.

• The eligibility and certification process for institutions of higher education under Title IV, of the HEA, together with recommendations for improvement in such process.

• The relationship between (1) accreditation of institutions of higher education and the certification and eligibility of such institutions, and (2) State licensing responsibilities with respect to such institutions.

• Any other advisory function relating to accreditation and institutional eligibility that the Secretary may prescribe.

SUMMARY: This notice sets forth the agenda for the December 11-12, 2012, meeting of the National Advisory Committee on Institutional Quality and Integrity (NACIQI); and provides information to members of the public on submitting written comments and on requesting to make oral comments at the meeting. The notice of this meeting is required under Section 10(a)(2) of the Federal Advisory Committee Act (FACA) and Section 114(d)(1)(B) of the Higher Education Act (HEA) of 1965, as amended.

Meeting Date and Place: The NACIQI meeting will be held on December 11-12, 2012, from approximately 8:00 a.m. to approximately 5:30 p.m. at a location to be determined in the Washington, DC area. The exact location will be published in the Federal Register and on the Department's Web site at http://www2.ed.gov/about/bdscomm/list/naciqi.html#meetings by November 2, 2012.

Meeting Agenda: The meeting will include a review of accrediting and State agencies seeking a renewal of recognition and a policy discussion session on NACIQI's potential for addressing HEA-related accreditation issues and recommendations currently being discussed within the higher education community. Below is a list of agencies, including their current and requested scopes of recognition, scheduled for review during the December 11-12, 2012, meeting:

Petitions for Continued Recognition

Accrediting Agencies

1. Academy of Nutrition and Dietetics, Accreditation Council for Education in Nutrition and Dietetics (ACEND) (Current and Requested Scope: The accreditation and pre-accreditation, within the United States, of Didactic and Coordinated Programs in Dietetics at both the undergraduate and graduate level, post-baccalaureate Dietetic Internships, and Dietetic Technician Programs at the associate degree level, and for its accreditation of such programs offered via distance education.)

2. American Physical Therapy Association, Commission on Accreditation in Physical Therapy Education (CAPTE) (Current and Requested Scope: The accreditation and preaccreditation (“Candidate for Accreditation”) in the United States of physical therapist education programs leading to the first professional degree at the master's or doctoral level and physical therapist assistant education programs at the associate degree level and for its accreditation of such programs offered via distance education.)

3. American Veterinary Medical Association, Council on Education (AVMA-COE) (Current and Requested Scope: The accreditation and preaccreditation (“Reasonable Assurance”) in the United States of programs leading to professional degrees (D.V.M. or D.M.D.) in veterinary medicine.)

4. Liaison Committee on Medical Education (LCME) (Current and Requested Scope: The accreditation of medical education programs within the United States leading to the M.D. degree.)

5. Middle States Commission on Higher Education (MSCHE) (Current Scope: The accreditation and preaccreditation (“Candidacy Status”) of institutions of higher education in Delaware, the District of Columbia, Maryland, New Jersey, New York, Pennsylvania, Puerto Rico, and the U.S. Virgin Islands, including distance education programs offered at those institutions.) REQUESTED SCOPE: The accreditation and preaccreditation (“Candidacy Status”) of institutions of higher education in Delaware, the District of Columbia, Maryland, New Jersey, New York, Pennsylvania, Puerto Rico, and the U.S. Virgin Islands, including distance education and correspondence education offered at those institutions.

6. New York State Board of Regents, and the Commissioner of Education (NYBRE) (Current and Requested Scope: The accreditation of those degree-granting institutions of higher education in New York, including distance education offered by those institutions, that designate the agency as their sole or primary nationally recognized accrediting agency for purposes of establishing eligibility to participate in HEA programs.)

7. Western Association of Schools and Colleges, Accrediting Commission for Senior Colleges and Universities (WASCSR) (Current and Requested Scope: The accreditation and preaccreditation (“Candidate for Accreditation”) of senior colleges and universities in California, Hawaii, the United States territories of Guam and American Samoa, the Republic of Palau, the Federated States of Micronesia, the Commonwealth of the Northern Mariana Islands and the Republic of the Marshall Islands, including distance education programs offered at those institutions.)

State Agencies Recognized for the Approval of Nurse Education

1. Missouri State Board of Nursing (MOSBN) (Current Scope: State agency for the approval of nurse education in the State of Missouri.)

Compliance Reports

1. Accrediting Bureau of Health Education Schools (ABHES) (Current Scope: The accreditation of private, postsecondary institutions in the United States offering predominantly allied health education programs and the programmatic accreditation of medical assistant, medical laboratory technician and surgical technology programs, leading to a certificate, diploma, Associate of Applied Science, Associate of Occupational Science, Academic Associate degree, or Baccalaureate degree, including those offered via distance education.)

2. American Board of Funeral Service Education (ABFSE) (Current Scope: The accreditation of institutions and programs within the United States awarding diplomas, associate degrees and bachelor's degrees in funeral service or mortuary science, including the accreditation of distance learning courses and programs offered by these programs and institutions.)

3. Commission on Massage Therapy Accreditation (COMTA) (Current Scope: The accreditation of institutions and programs in the United States that award postsecondary certificates, postsecondary diplomas, academic Associate degrees and occupational Associate degrees, in the practice of massage therapy, bodywork, and aesthetics/esthetics and skin care, including components of programs which are offered through distance learning modalities.)

4. Distance Education and Training Council (DETC) (Current Scope: The accreditation of postsecondary institutions in the United States that offer degree programs primarily by distance education up through professional doctoral degree, and are specifically certified by the agency as accredited for Title IV purposes; and for the accreditation of postsecondary institutions in the United States not participating in Title IV that offer programs primarily by distance education up through professional doctoral degrees.)

5. Midwifery Education Accreditation Council (MEAC) (Current Scope: The accreditation and pre-accreditation throughout the United States of direct-entry midwifery educational institutions and programs conferring degrees and certificates, including the accreditation of such programs offered via distance education.)

6. Montessori Accreditation Council for Teacher Education (MACTE) (Current Scope: The accreditation of Montessori teacher education institutions and programs throughout the United States, including those offered via distance education and correspondence education.)

7. Higher Learning Commission (HLC) (Current Scope: The accreditation and pre-accreditation (“Candidate for Accreditation”) of degree-granting institutions of higher education in Arizona, Arkansas, Colorado, Illinois, Indiana, Iowa, Kansas, Michigan, Minnesota, Missouri, Nebraska, New Mexico, North Dakota, Ohio, Oklahoma, South Dakota, West Virginia, Wisconsin, and Wyoming, including tribal institutions, and the accreditation of programs offered via distance education within these institutions. This recognition extends to the Institutional Actions Committee jointly with the Board of Trustees of the Commission for decisions on cases for continued accreditation or reaffirmation and continued candidacy. This recognition also extends to the Review Committee of the Accreditation Review Council, jointly with the Board of Trustees of the Commission, for decisions on cases for continued accreditation or candidacy and for initial candidacy or initial accreditation when there is a consensus decision by the Review Committee.

Submission of Written Comments: Written comments must be received by September 10, 2012, in the accreditationcommittees@ed.gov and include the subject line “Written Comments: re (agency name).” The email must include the name, title, affiliation, mailing address, email address, telephone and facsimile numbers and Web site (if any) of the person/group making the comment. Comments should be submitted as a Microsoft Word document or in a medium compatible with Microsoft Word (not a PDF file) that is attached to an electronic mail message (email) or provided in the body of an email message. Comments about an agency's compliance report must relate to the issues raised and the criteria for recognition cited in the Secretary's letter that requested the report. Comments about the renewal of an agency's recognition must relate to its compliance with the Criteria for the Recognition of Accrediting Agencies or the Criteria and Procedures for Recognition of State Agencies for Approval of Nurse Education, as appropriate, which are available at http://www.ed.gov/admins/finaid/accred/index.html. Third parties having concerns about agencies regarding matters outside the scope of the petition should report those concerns to the Department. Only material submitted by the deadline to the email address listed in this notice, and in accordance with these instructions, become part of the official record concerning agencies scheduled for review and are considered by the Department and the NACIQI in their deliberations. Please do not send material directly to the NACIQI members.

Submission of Requests To Make an Oral Comment: There are two methods the public may use to make a third-party oral comment of three to five minutes concerning one of the agencies scheduled for review at the December 11-12, 2012 meeting. Oral comments about agencies seeking renewal of recognition must relate to the Criteria for Recognition of Accrediting Agencies or the Criteria and Procedures for Recognition of State Agencies for Approval of Nurse Education, as appropriate, which are available at: http://www.ed.gov/admins/finaid/accred/index.html.

Method One: Submit a request by email to the accreditationcommittees@ed.gov. Please do not send material directly to NACIQI members. Requests must be received by September 10, 2012, and include the subject line “Oral Comment Request: re (agency name).” The email must include the name, title, affiliation, mailing address, email address, telephone and facsimile numbers and Web site (if any) of the person/group requesting to speak. All individuals or groups submitting an advance request in accordance with this notice will be afforded an opportunity to speak for a minimum of three minutes each. Each request must concern the recognition of a single agency tentatively scheduled in this notice for review, be no more than one page (maximum), and must include:

1. The name, title, affiliation, mailing address, email address, telephone and facsimile numbers, and Web site (if any) of the person/group requesting to speak; and,

2. A brief summary of the principal points to be made during the oral presentation.

Method Two: Register at the meeting location on December 11 or December 12, 2012, to make an oral comment during the NACIQI's deliberations concerning a particular agency scheduled for review that day. The requestor must provide his or her name, title, affiliation, mailing address, email address, telephone and facsimile numbers, and Web site (if any). A total of up to fifteen minutes during each agency review will be allotted for commenters who register on December 11 or December 12, 2012. Individuals or groups will be selected on a first-come, first-served basis. If selected, each commenter may speak from three to five minutes, depending on the number of individuals or groups who signed up the day of the meeting.

If a person or group requests, in advance, to make comments they cannot also register for an oral presentation opportunity on December 11 or December 12, 2012. The oral comments made will become part of the official record and will be considered by the Department and NACIQI in their deliberations. Individuals and groups making oral presentations concerning scheduled agencies may not distribute written materials at the meeting.

Access to Records of the Meeting: The Department will post the official report of the meeting on the NACIQI Web site shortly after the meeting. Pursuant to the FACA, the public may also inspect the materials at 1990 K Street NW., Washington, DC, by emailing aslrecordsmanager@ed.gov or by calling (202) 219-7067 to schedule an appointment.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

FOR FURTHER INFORMATION CONTACT: Carol Griffiths, Executive Director, NACIQI, U.S. Department of Education, 1990 K Street NW., Room 8073, Washington, DC 20006-8129, telephone: (202) 219-7035, fax: (202) 219-7005, or email: Carol.Griffiths@ed.gov.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

David A. Bergeron,
Acting Assistant Secretary for Postsecondary Education.

[FR Doc. 2012-20281 Filed 8-16-12; 8:45 am]

BILLING CODE P